INTERNATIONAL TRADE COMMISSION

[Investigation Nos. 701-TA-704-705 and 731-TA-1664-1666 (Final)]

Paper Plates From China, Thailand, and Vietnam; Cancellation of Hearing for Final Phase Antidumping and Countervailing Duty Investigations

AGENCY: United States International Trade Commission.

ACTION: Notice.

DATES: January 17, 2025.

FOR FURTHER INFORMATION CONTACT: Stamen Borisson ((202) 205-3125), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective September 5, 2024, the Commission established a schedule for the final phase of these investigations (89 FR 76508, September 18, 2024). On January 16, 2025, counsel for the American Paper Plate Coalition filed its request to appear at the hearing. No other parties submitted a request to appear at the hearing. On January 17, 2025, counsel withdrew their request to appear at the hearing. Counsel indicated a willingness to submit written responses to any Commission questions in lieu of an actual hearing. Consequently, the public hearing in connection with these investigations, scheduled to begin at 9:30 a.m. on Thursday, January 23, 2025, is cancelled. Parties to these investigations should respond to any written questions posed by the Commission in their posthearing briefs, which are due to be filed on January 30, 2025.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: January 17, 2025.
Lisa Barton,
Secretary to the Commission.

[FR Doc. 2025-01646 Filed 1-23-25; 8:45 am]

BILLING CODE 7020-02-P